DEPARTMENT OF AGRICULTURE

Forest Service

Eastern Idaho Resource Advisory Committee; Caribou-Targhee National Forest, Idaho Falls, ID

AGENCY: Forest Service, USDA.

ACTION: Notice of meeting.

SUMMARY: Pursuant to the authorities in the Federal Advisory Committee Act (Pub. L. 92-463) and under the Secure Rural Schools and Community Self-Determination Act of 2000 (Pub. L. 106-393) the Caribou-Targhee National Forest's Eastern Idaho Resource Advisory Committee will meet Wednesday, February 13, 2002 in Idaho Falls for a business meeting. The meeting is open to the public.

DATES: The business meeting will be held on February 13, 2002 from 10 a.m. to 3 p.m.

ADDRESSES: The meeting location is the Quality Inn, 850 Lindsay Boulevard, Idaho Falls, Idaho 83402.

FOR FURTHER INFORMATION CONTACT: Jerry Reese, Caribou-Targhee National Forest Supervisor and Designated Federal Officer, at (208) 524-7500.

SUPPLEMENTARY INFORMATION: The business meeting on February 13, begins at 10 am, at the Quality Inn, 850 Lindsay Boulevard, Idaho Falls, Idaho. Agenda topics will include FACA overview, Charter overview, Process for project identification/recommendation, election of Chairperson, operating guidelines, and establishment of future meeting schedule.

Dated: January 26, 2002.
Jerry B. Reese,
Caribou-Targhee Forest Supervisor.

[FR Doc. 02-1716 Filed 1-23-02; 8:45 am]

BILLING CODE 3410-11-M